DEPARTMENT OF THE TREASURY

Submission for OMB Review; Comment Request

July 23, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue NW., Washington, DC 20220.

DATES: Written comments should be received on or before September 2, 2003 to assured of consideration.

Internal Revenue Service (IRS)

OMB Number: 1545-0144.

Form Number: IRS Form 2438.

Type of Review: Extension.

Title: Undistributed Capital Gains Tax Return.

Description: Form 2438 is used by regulated investment companies to figure capital gains tax on undistributed capital gains designated under Internal Revenue Code (IRC) section 852(b)3(D). IRS uses this information to determine the correct tax.

Respondents: Business of other for-profit.

Estimated Number of Respondents/Recordkeepers: 100.

Estimated Burden Hours Per Respondent/Recordkeeper:

Recordkeeping—7 hr., 39 min.

Learning about the law or the form—24 min.

Preparing and sending the form to the IRS—32 min.

Frequency of Response: Annually.

Estimated Total Reporting/Recordkeeping Burden: 859 hours.

OMB Number: 1545-0940.

Regulation Project Number: LR-185-84 Final.

Type of Review: Extension.

Title: Election of $10 Million Limitation on Exempt Small Issues of industrial Development Bonds; Supplemental Capital Expenditure Statements.

Description: The regulation liberalizes the procedure by which the state or local government issuer of an exempt small issue to tax-exempt bonds elects the $10 million limitation upon the size of such issue and deletes the requirement to file certain supplemental capital expenditure statements.

Respondents: State, Local or Tribal Government.

Estimated Number of Recordkeepers: 10,000.

Estimated Burden Hours Per Recordkeeper: 6 minutes.

Estimated Total Recordkeeping Burden: 1,000 hours.

OMB Number: 1545-1069.

Regulation Project Number: EE-175-86 Final and REG-108639-99 NPRM.

Type of Review: Extension.

Title: EE-175-86 Final: Certain Cash or Deferred Arrangements and Employee and Matching Contributions Under Employee Plans; REG-108639-99 NPRM: Retirement Plans; Cash or Deferred Arrangements Under section 401(k) and Matching Contributions or Employee Contributions or Employee Contributions Under section 401(m).

Description: The IRS needs this information to insure compliance sections 401(k), 401(m), and 4979 of the Internal Revenue Code. Certain additional taxes may be imposed if sections 401(k) and 401(m) are not complied with.

Respondents: Business or other for-profit, Not-for-profit institutions, Farms, State, Local or Tribal Government.

Estimated Number of Respondents/Recordkeepers: 355,500.

Estimated Burden Hours Per Respondent/Recordkeeper: 3 hours.

Frequency of Response: Annually.

Estimated Total Reporting/Recordkeeping Burden: 1,060,000 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 03-19604 Filed 7-31-03; 8:45 am]

BILLING CODE 4830-01-P